DEPARTMENT OF ENERGY

Environmental Management Site-Specific Advisory Board, Savannah River Site

AGENCY: Department of Energy.

ACTION: Notice of open meeting.

SUMMARY: This notice announces a meeting of the Environmental Management Site-Specific Advisory Board (EM SSAB), Savannah River Site. The Federal Advisory Committee Act (Pub. L. 92-463, 86 Stat. 770) requires that public notice of this meeting be announced in the Federal Register.

DATES: Monday, July 21, 2014 1:00 p.m.-6:00 p.m. Tuesday, July 22, 2014 8:30 a.m.-5:00 p.m.

ADDRESSES: Doubletree Hotel, 2651 Perimeter Parkway, Augusta, GA 30909.

FOR FURTHER INFORMATION CONTACT: Gerri Flemming, Office of External Affairs, Department of Energy, Savannah River Operations Office, P.O. Box A, Aiken, SC, 29802; Phone: (803) 952-7886.

SUPPLEMENTARY INFORMATION: Purpose of the Board: The purpose of the Board is to make recommendations to DOE-EM and site management in the areas of environmental restoration, waste management, and related activities.

Tentative Agenda

Monday, July 21, 2014

1:00 p.m. Combined Committees Session

Order of committees:

• Nuclear Materials

• Waste Management

• Strategic & Legacy Management

• Facilities Disposition & Site Remediation

• Administrative & Outreach

3:15 p.m. Public Comments Session

3:30 p.m. Adjourn

4:00-6:00 p.m. Savannah River Site Citizens' Advisory Board 20th Celebration

• Held in Doubletree Atrium

Tuesday, July 22, 2014

8:30 a.m. Opening, Pledge, Approval of Minutes, and Chair Update

9:00 a.m. Nuclear Materials Committee Report

10:00 a.m. Recommendation and Work Plan Status

10:15 a.m. Public Comments Session BREAK (10:30 a.m.)

10:45 a.m. DOE-EM Headquarters Report

11:30 a.m. Agency Updates

12:30 p.m. Administrative & Outreach Committee Report

12:45 p.m. Public Comments Session

1:00 p.m. Lunch Break

2:15 p.m. Waste Management Committee Report Strategic & Legacy Management Committee Report Facilities Disposition & Site Remediation Committee Report

4:45 p.m. Public Comments Session

5:00 p.m. Adjourn

Public Participation: The EM SSAB, Savannah River Site, welcomes the attendance of the public at its advisory committee meetings and will make every effort to accommodate persons with physical disabilities or special needs. If you require special accommodations due to a disability, please contact Gerri Flemming at least seven days in advance of the meeting at the phone number listed above. Written statements may be filed with the Board either before or after the meeting. Individuals who wish to make oral statements pertaining to agenda items should contact Gerri Flemming's office at the address or telephone listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Gerri Flemming at the address or phone number listed above. Minutes will also be available at the following Web site: http://cab.srs.gov/srs-cab.html.

Issued at Washington, DC, on June 27, 2014.
LaTanya R. Butler,
Deputy Committee Management Officer.

[FR Doc. 2014-15513 Filed 7-1-14; 8:45 am]

BILLING CODE 6450-01-P